DEPARTMENT OF DEFENSE

Department of the Army, Corps of Engineers

Withdrawal of Notice of Intent To Prepare an Environmental Impact Statement for the Gregory Canyon Landfill Project, San Diego County, California

AGENCY: U.S. Army Corps of Engineers, DoD.

ACTION: Notice of Intent; withdrawal.

SUMMARY: The U.S. Army Corps of Engineers (Corps), Los Angeles District, is issuing this notice to advise Federal, state, and local governmental agencies and the public that the Corps is withdrawing its Notice of Intent (NOI) to prepare an Environmental Impact Statement (EIS) for the Gregory Canyon Landfill Project located in San Diego County, California (Corps File No. SPL-2010-00354).

ADDRESSES: U.S. Army Corps of Engineers, Los Angeles District, Carlsbad Field Office (Attn: Michelle Lynch), 5900 La Place Court, Suite 100, Carlsbad, California 92008.

FOR FURTHER INFORMATION CONTACT: Michelle Lynch, South Coast Branch Chief, Carlsbad Field Office. Email address: michelle.r.lynch@usace.army.mil.

SUPPLEMENTARY INFORMATION: The Corps published an NOI in the Federal Register on May 7, 2010 (75 FR 25218) to prepare a Draft EIS pursuant to the National Environmental Policy Act for the proposed Gregory Canyon Landfill Project. A public scoping meeting was held on June 3, 2010 to solicit public input on the scope of analysis; significant issues to be evaluated in the Draft EIS; direct, indirect and cumulative impacts resulting from the proposed action; and proposed alternatives. The Corps published a Notice of Availability (NOA) for the Draft EIS for the Gregory Canyon Landfill Project on December 14, 2012 (77 FR 74470) and held a public hearing on January 31, 2013. The Draft EIS was circulated for public comments for 125 days, ending on April 15, 2013. However, the Corps withdrew the DA permit application on April 28, 2014 pursuant to 33 CFR 325.2(d)(5), due to a lack of essential information needed from the applicant to continue with the permit application evaluation process. The applicant subsequently provided the essential information and a new DA permit application, and the Corps issued a Public Notice for the updated application on September 24, 2015 with a 30-day comment period. Since that time, the project proponent has withdrawn its Department of the Army permit application and is no longer actively pursuing the proposed project. Therefore, the Corps is withdrawing the Draft EIS for the Gregory Canyon Landfill Project.

David J. Castanon,
Chief, Regulatory Division, Los Angeles District.

[FR Doc. 2017-08429 Filed 4-25-17; 8:45 am]

BILLING CODE 3720-58-P